DEPARTMENT OF ENERGY

Federal Energy Regulatory Commission

[Project No. 14201-000]

Bison Peak Pumped Storage, LLC.; Notice of Preliminary Permit Application Accepted for Filing and Soliciting Comments, Motions To Intervene, and Competing Applications

On May 5, 2011, the Bison Peak Pumped Storage, LLC., filed an application for a preliminary permit, pursuant to section 4(f) of the Federal Power Act (FPA), proposing to study the feasibility of the Bison Peak Pumped Storage Project (Bison Peak Project or project) to be located in the Tehachapi Mountains south of Tehachapi, Kern County, California. The sole purpose of a preliminary permit, if issued, is to grant the permit holder priority to file a license application during the permit term. A preliminary permit does not authorize the permit holder to perform any land-disturbing activities or otherwise enter upon lands or waters owned by others without the owners' express permission.

The applicant has proposed four alternatives for the placement of a lower reservoir, termed “South,” “Tejon,” “Horsethief,” and “Sawmill.” Water for the initial fill of each of the alternatives would be obtained from local water agency infrastructure via a route that would be identified during studies.

The South alternative proposal would consist of the following: (1) An upper dam with a height of 50 feet, a crest length of 7,128 feet, and with a reservoir having a total storage capacity of 5,500 acre-feet at a normal maximum operating elevation of 7,860 feet mean sea level (msl); (2) a lower dam with a height of 310 feet, a crest length of 1,160 feet, and with a reservoir having a total storage capacity of 5,805 acre-feet at a normal maximum operating elevation of 5,100 feet msl; (3) a 9,060-foot-long underground conduit; (4) a powerhouse containing four 250-megawatt (MW) reversible pump turbines and located 900 feet below ground level, approximately midway between the upper and lower reservoirs; (5) a powerhouse access tunnel of approximately 2,090 feet; and (6) a 3.2- or 5.3-mile-long, 345-kilovolt (kV) transmission line to either the existing Cottonwind or Windhub substations, respectively.

The Tejon alternative proposal would consist of the following: (1) An upper dam with a height of 50 feet, a crest length of 7,128 feet, and with a reservoir having a total storage capacity of 5,500 acre-feet at a normal maximum operating elevation of 7,860 feet msl; (2) a lower dam with a height of 260 feet, a crest length of 1,480 feet, and with a reservoir having a total storage capacity of 6,355 acre-feet at a normal maximum operating elevation of 5,250 feet msl; (3) a 10,350-foot-long underground conduit; (4) a powerhouse containing four 250-MW reversible pump turbines and located 900 feet below ground level, approximately midway between the upper and lower reservoirs; and (5) a 14.2- or 14.8-mile-long transmission line (including both new construction of a 345-kV line and upgrades to existing transmission lines) to either the existing Cottonwind or Windhub substations, respectively. The estimated annual generation of the Bison Peak Pumped Storage Project would be 3,066 gigawatt-hours.

The Horsethief alternative would consist of the following: (1) An upper dam with a height of 50 feet, a crest length of 7,128 feet, and with a reservoir having a total storage capacity of 5,500 acre-feet at a normal maximum operating elevation of 7,860 feet msl; (2) a lower dam with a height of 310 feet, a crest length of 1,000 feet, and with a reservoir having a total storage capacity of 4,460 acre-feet at a normal maximum operating elevation of 5,650 feet msl; (3) a 11,000-foot-long underground conduit; (4) a powerhouse containing four 125-MW reversible pump turbines and located 1,500 feet below ground level, approximately midway between the upper and lower reservoirs; and (5) a 15.7- or 11.5-mile-long transmission line (including both new construction of a 230-kV line and upgrades to existing transmission lines) to either the existing Whirlwind or Windhub substations, respectively. The estimated annual generation of the Bison Peak Pumped Storage Project would be 1,533 gigawatt-hours.

The Sawmill alternative would consist of the following: (1) An upper dam with a height of 50 feet, a crest length of 7,128 feet, and with a reservoir having a total storage capacity of 5,500 acre-feet at a normal maximum operating elevation of 7,860 feet msl; (2) a lower dam with a height of 310 feet, a crest length of 1,160 feet, and with a reservoir having a total storage capacity of 6,205 acre-feet at a normal maximum operating elevation of 6,000 feet msl; (3) a 9,750-foot-long underground conduit; (4) a powerhouse containing four 125-MW reversible pump turbines and located 450 feet below ground level, approximately midway between the upper and lower reservoirs; and (5) a 16.8- or 10.9-mile-long transmission line (including both new construction of a 230-kV line and upgrades to existing transmission lines) to either the existing Whirlwind or Windhub substations, respectively. The estimated annual generation of the Bison Peak Pumped Storage Project would be 1,533 gigawatt-hours.

Applicant Contact: Bison Peak Pumped Storage, LLC. 9795 Cabrini Dr., Ste. 206, Burbank, CA 91504; phone: (818) 767-5554.

FERC Contact: Matt Buhyoff; phone: (202) 502-6824.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14201-000) in the docket number field to access the document. For assistance, contact FERC Online Support.

Dated: September 30, 2011.
Kimberly D. Bose,
Secretary.

[FR Doc. 2011-25965 Filed 10-6-11; 8:45 am]

BILLING CODE 6717-01-P